DEPARTMENT OF TRANSPORTATION

Federal Highway Administration

Environmental Impact Statement: Calvert and St. Mary's Counties, MD

AGENCY: Federal Highway Administration (FHWA), DOT.

ACTION: Notice of withdrawal.

SUMMARY: The FHWA is issuing this notice to advise the public that a prior Notice of Intent to prepare an Environmental Impact Statement (EIS) for the proposed roadway widening and bridge replacement project in Calvert and St. Mary's Counties, Maryland (Federal Register Vol. 72, No. 203; FR Doc. 07-5190) is being withdrawn and an Environmental Assessment (EA), in lieu of an EIS, is being prepared for this proposed highway project.

FOR FURTHER INFORMATION CONTACT: Ms. Jeanette Mar, Environmental Program Manager, Federal Highway Administration, DelMar Division Office, City Crescent Building, Suite 2450, 10 South Howard Street, Baltimore, Maryland 21201; Telephone: (410) 779-7152, e-mail address: Jeanette.Mar@dot.gov.

SUPPLEMENTARY INFORMATION: The Federal Highway Administration (FHWA), in cooperation with the Maryland State Highway Administration (SHA), is advising the general public that SHA conducted studies of the potential environmental impacts associated with the proposed roadway widening and bridge replacement of MD 4 from MD 2 to MD 235 in Calvert and St. Mary's Counties, a distance of approximately 4.1 miles.

Improvements to the corridor are necessary to improve existing capacity and traffic operations, and to increase vehicular, pedestrian and bicycle safety along MD 4, while supporting existing and planned development in the area. Improvements to the bridge are necessary due to inadequate shoulder widths, major traffic delays and/or closures currently occur along the Thomas Johnson Memorial Bridge during crashes and maintenance activities. In addition, the rate on MD 4 from FDR Boulevard to MD 235, as well as the rear end collision rate across the Thomas Johnson Memorial Bridge, is greater than the statewide average.

Alternatives under consideration include taking no action and widening existing MD 4 to a four-lane divided highway, with various options for bridge improvements and/or reconstruction. The EA will be available for public and agency review and comment prior to a Public Hearing. Public notice will be given of the availability of the EA for review and of the time and place of this hearing. A Scoping Meeting was held in May 2007, and two Open House Workshops were held in June 2008 to solicit opinions and ideas on proposed improvements from local citizens.

To ensure that the full range of issues related to this proposed action are addressed and all significant issues identified, comments and suggestions are invited from all interested parties. Comments or questions concerning this proposed action and the determination that an EA is the proper environmental document should be directed to FHWA at the address provided above.

(Catalog of Federal Domestic Assistance Program Number 20.205, Highway Research, Planning and Construction. The regulations implementing Executive Order 12372 regarding intergovernmental consultation on Federal programs and activities apply to this program.)

Issued on May 27, 2010.
Jeanette Mar,
Environmental Program Manager.

[FR Doc. 2010-13399 Filed 6-3-10; 8:45 am]

BILLING CODE 4910-22-P